DEPARTMENT OF AGRICULTURE

Animal and Plant Health Inspection Service

[Docket No. APHIS-2012-0076]

Plants for Planting Whose Importation Is Not Authorized Pending Pest Risk Analysis; Notice of Availability of Data Sheets for Taxa of Plants for Planting That Are Quarantine Pests or Hosts of Quarantine Pests

AGENCY: Animal and Plant Health Inspection Service, USDA.

ACTION: Notice of availability and request for comments; reopening of comment period.

SUMMARY: We are reopening the comment period for a notice that made available to the public data sheets detailing the scientific evidence we evaluated in making the determination that certain taxa of plants for planting are quarantine pests or hosts of quarantine pests and, therefore, should be added to our lists of plants for planting whose importation is not authorized pending pest risk analysis. This action will allow interested persons additional time to prepare and submit comments.

DATES: The comment period for the notice published May 6, 2013 (78 FR 26316) is reopened. We will consider all comments that we receive on or before August 12, 2013.

ADDRESSES: You may submit comments by either of the following methods:

• Federal eRulemaking Portal: Go to http://www.regulations.gov/#!documentDetail;D=APHIS-2012-0076-0001.

• Postal Mail/Commercial Delivery: Send your comment to Docket No. APHIS-2012-0076, Regulatory Analysis and Development, PPD, APHIS, Station 3A-03.8, 4700 River Road Unit 118, Riverdale, MD 20737-1238.

Supporting documents and any comments we receive on this docket may be viewed at http://www.regulations.gov/#!docketDetail;D=APHIS-2012-0076 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Arnold Tschanz, Senior Regulatory Policy Specialist, Plants for Planting Policy, RPM, PPQ, APHIS, 4700 River Road Unit 133, Riverdale, MD 20737-1236; (301) 851-2179.

SUPPLEMENTARY INFORMATION: On May 6, 2013, we published in the Federal Register (78 FR 26316-26317, Docket No. APHIS-2012-0076) a notice that made available to the public data sheets detailing the scientific evidence we evaluated in making the determination that certain taxa of plants for planting are quarantine pests or hosts of quarantine pests and, therefore, should be added to our lists of plants for planting whose importation is not authorized pending pest risk analysis.

Comments on the notice were required to be received on or before July 5, 2013. We are reopening the comment period on Docket No. APHIS-2012-0076 for an additional 30 days. This action will allow interested persons additional time to prepare and submit comments. We will also consider all comments received between July 6, 2013 (the day after the close of the original comment period) and the date of this notice.

Authority: 7 U.S.C. 450 and 7701-7772 and 7781-7786; 21 U.S.C. 136 and 136a; 7 CFR 2.22, 2.80, and 371.3.

Done in Washington, DC, this 26th day of June, 2013.
Kevin Shea,
Administrator, Animal and Plant Health Inspection Service.

[FR Doc. 2013-16722 Filed 7-11-13; 8:45 am]

BILLING CODE 3410-34-P